NUCLEAR REGULATORY COMMISSION

[NRC-2014-0182]

Agency Information Collection Activities: Submission for the Office of Management and Budget Review; Comment Request

AGENCY: Nuclear Regulatory Commission.

ACTION: Notice of the OMB review of information collection and solicitation of public comment.

SUMMARY: The NRC has recently submitted to Office of Management and Budget (OMB) for review the following proposal for the collection of information under the provisions of the Paperwork Reduction Act of 1995 (44 U.S.C. Chapter 35). The NRC hereby informs potential respondents that an agency may not conduct or sponsor, and that a person is not required to respond to, a collection of information unless it displays a currently valid OMB control number. The NRC published a Federal Register notice with a 60-day comment period on this information collection on August 28, 2014.

1. Type of submission, new, revision, or extension: Extension.

2. The title of the information collection: 10 CFR part 54, “Requirements for Renewal of Operating Licenses for Nuclear Power Plants.”

3. Current OMB approval number: 3150-0155.

4. The form number if applicable: N/A.

5. How often the collection is required: There is a one-time application for any licensee wishing to renew the operating license for its nuclear power plant. There is a one-time requirement for each licensee with a renewed operating license to submit a letter documenting the completion of inspection and testing activities. All holders of renewed licenses must perform yearly record keeping.

6. Who will be required or asked to report: Commercial nuclear power plant licensees who wish to renew their operating licenses and holders of renewed licenses.

7. An estimate of the number of annual responses: 6.

8. The estimated number of annual respondents: 58 (52 recordkeepers + 6 responses (2 license renewal applications expected on average + 4 letters documenting the completion of inspection and testing activities expected on average)).

9. An estimate of the total number of hours needed annually to complete the requirement or request: 220,340 hours (168,340 hours of reporting + 52,000 hours of recordkeeping).

10. Abstract: Part 54 of Title 10 of the Code of Federal Regulations (10 CFR), establishes license renewal requirements for commercial nuclear power plants and describes the information that licensees must submit to the NRC when applying for a license renewal. The application must contain information on how the licensee will manage the detrimental effects of age-related degradation on certain plant systems, structures, and components so as to continue the plant's safe operation during the renewal term. The NRC needs this information to determine whether the licensee's actions will be effective in assuring the plants' continued safe operation during the period of extended operation.

Holders of renewed licenses must retain in an auditable and retrievable form, for the term of the renewed operating license, all information and documentation required to document compliance with 10 CFR part 54. The NRC needs access to this information for continuing effective regulatory oversight.

The public may examine and have copied for a fee publicly available documents, including the final supporting statement, at the NRC's Public Document Room, Room O-1F21, One White Flint North, 11555 Rockville Pike, Rockville, Maryland 20852. OMB clearance requests are available at the NRC worldwide Web site: http://www.nrc.gov/public-involve/doc-comment/omb/. The document will be available on the NRC home page site for 60 days after the signature date of this notice.

Comments and questions should be directed to the OMB reviewer listed below by January 23, 2015. Comments received after this date will be considered if it is practical to do so, but assurance of consideration cannot be given to comments received after this date.

Vlad Dorjets, Desk Officer, Office of Information and Regulatory Affairs (3150-0155), NEOB-10202, Office of Management and Budget,

Washington, DC 20503

Comments can also be emailed to Vladik_Dorjets@omb.eop.gov or submitted by telephone at 202-395-7315.

The NRC Clearance Officer is Tremaine Donnell, 301-415-6258.

Dated at Rockville, Maryland, this 18th day of December 2014.
For the Nuclear Regulatory Commission.
Tremaine Donnell,
NRC Clearance Officer, Office of Information Services.

[FR Doc. 2014-30101 Filed 12-23-14; 8:45 am]

BILLING CODE 7590-01-P